NATIONAL SCIENCE FOUNDATION

Agency Information Collection Activities: Comment Request

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by March 2, 2020 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Evaluation of the Sustainability and Diffusion of the NSF ADVANCE Program.

OMB Number: 3145-NEW.

Expiration Date of Approval: Not applicable.

Type of Request: Intent to seek approval to establish an information collection.

Proposed Project: Use of the Information: The ADVANCE Program, launched by the National Science Foundation in 2001, supports projects to identify and address structural and policy barriers to equity for STEM faculty. The proposed evaluation examines the sustainability and diffusion of ADVANCE strategies. The evaluation focuses on ADVANCE projects that started between 2001 and 2018, as well as proposals for the ADVANCE Institutional Transformation (IT) grants that were not funded. The data collection for this request includes: Six self-completion online surveys (with questions tailored to different types of ADVANCE grants); one self-completion online survey for ADVANCE Institutional Transformation applicants; and one instrument to conduct interviews with two representatives from six ADVANCE grantees.

Respondents: Respondents are representatives from ADVANCE grantees and applicants of ADVANCE Institutional Transformation grants.

Estimated Number of Annual Respondents: 328 individuals.

Burden on the Public: 227 hours.

Data collection type | Number of individuals | Participation time (in minutes) | Burden (in annual hours)
Single Institution Organizational Change Ended Survey | 74 | 60 | 74
Single Institution Organizational Change Ongoing Survey | 19 | 60 | 19
Leadership Ended Survey | 34 | 30 | 17
Partnership Ended Survey | 27 | 30 | 13.5
Single Institution Self-Assessment Ended Survey | 34 | 30 | 17
Partnership Ongoing Survey | 8 | 30 | 4
Single Institution Organizational Change Ended Survey and Partnership Ended Survey | 6 | 90 | 9
Partnership Ended Survey and Leadership Ended Survey | 1 | 60 | 1
Leadership Ended Survey and Single Institution Self-Assessment Ended Survey | 1 | 90 | 1.5
Single Institution Organizational Change Ended Survey and Single Institution Self-Assessment Ended Survey | 1 | 120 | 2
Single Institution Organizational Change Ongoing Survey and Single Institution Self-Assessment Ended Survey | 1 | 120 | 2
Institutional Transformation Applicant Survey | 110 | 30 | 55
Telephone interviews with representatives of ADVANCE Grantees | 12 | 60 | 12
Total | 328 |  | 227

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: January 27, 2020.
Suzanne H. Plimpton,
Reports Clearance Officer, National Science Foundation.

[FR Doc. 2020-01697 Filed 1-29-20; 8:45 am]

BILLING CODE 7555-01-P